FEDERAL COMMUNICATIONS COMMISSION

47 CFR Part 73

[DA 06-986; MB Docket No. 04-375; RM-11038]

Radio Broadcasting Services; Hillsborough and Louisburg, NC

AGENCY: Federal Communications Commission.

ACTION: Final rule.

SUMMARY: The Audio Division, at the request of New Century Media Group, LLC, reallots Channel 273A from Louisburg, North Carolina to Hillsborough, North Carolina, and modifies the license of Station WKXU(FM), accordingly. The coordinates for Channel 273 at Hillsborough are 36-06-49 North Latitude and 79-00-20 West Longitude, with a site restriction of 9.51 kilometers (5.91 miles) northeast of the community.

DATES: Effective June 26, 2006.

FOR FURTHER INFORMATION CONTACT: Helen McLean, Media Bureau, (202) 418-2738.

SUPPLEMENTARY INFORMATION: This is a synopsis of the Commission's Report and Order, MB Docket No. 04-375, adopted May 10, 2006, and released May 12, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under North Carolina, is amended by removing Louisburg, Channel 273A and by adding Hillsborough, Channel 273A.

Federal Communications Commission.
John A. Karousos,
Assistant Chief, Audio Division, Media Bureau.

[FR Doc. E6-8171 Filed 5-30-06; 8:45 am]

BILLING CODE 6712-01-P